DEPARTMENT OF ENERGY

Federal Energy Regulatory Commission

[Docket No. GT01-4-000]

Dauphin Island Gathering Partners; Notice of Proposed Changes in FERC Gas Tariff

October 31, 2000.

Take notice that on October 26, 2000, Dauphin Island Gathering Partners (DIGP) tendered for filing to become part of its FERC Gas Tariff, First Revised Volume No. 1, the following tariff sheets, with an effective date of October 23, 2000.

First Revised Sheet No. 247

DIGP states that this filing is submitted to reflect a change in the World Wide Web address of DIGP's Internet Web Site. DIGP has revised Sheet No. 247 to reflect DIGP's current World Wide Web address of www.digp.defs.com

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protest will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28380 Filed 11-3-00; 8:45 am]

BILLING CODE 6717-01-M